DEPARTMENT OF AGRICULTURE

Animal and Plant Health Inspection Service

[Docket No. APHIS-2014-0044]

Notice of Request for Reinstatement of an Information Collection; National Animal Health Monitoring System; Equine 2015 Study

AGENCY: Animal and Plant Health Inspection Service, USDA.

ACTION: Reinstatement of an information collection; comment request.

SUMMARY: In accordance with the Paperwork Reduction Act of 1995, this notice announces the Animal and Plant Health Inspection Service's intention to request a reinstatement of an information collection to support the National Animal Health Monitoring System's Equine 2015 Study to support the equine industry in the United States.

DATES: We will consider all comments that we receive on or before September 5, 2014.

ADDRESSES: You may submit comments by either of the following methods:

• Federal eRulemaking Portal: Go to http://www.regulations.gov/#!docketDetail;D=APHIS-2014-0044.

• Postal Mail/Commercial Delivery: Send your comment to Docket No. APHIS-2014-0044, Regulatory Analysis and Development, PPD, APHIS, Station 3A-03.8, 4700 River Road Unit 118, Riverdale, MD 20737-1238.

Supporting documents and any comments we receive on this docket may be viewed at http://www.regulations.gov/#!docketDetail;D=APHIS-2014-0044 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: For information on the Equine 2015 Study, contact Mr. Chris Quatrano, Industry Analyst, Centers for Epidemiology and Animal Health, VS, APHIS, 2150 Centre Avenue, Building B MS 2E7, Fort Collins, CO 80526; (970) 494-7207. For copies of more detailed information on the information collection, contact Mrs. Celeste Sickles, APHIS' Information Collection Coordinator, at (301) 851-2908.

SUPPLEMENTARY INFORMATION: Title: National Animal Health Monitoring System; Equine 2015 Study.

OMB Control Number: 0579-0269.

Type of Request: Reinstatement of an information collection.

Abstract: Under the Animal Health Protection Act (7 U.S.C. 8301 et seq.), the Animal and Plant Health Inspection Service (APHIS) of the U.S. Department of Agriculture is authorized, among other things, to protect the health of U.S. livestock and poultry populations by preventing the introduction and interstate spread of serious diseases and pests of livestock and by eradicating such diseases from the United States when feasible. In connection with this mission, APHIS operates the National Animal Health Monitoring System (NAHMS), which collects nationally representative, statistically valid, and scientifically sound data on the prevalence and economic importance of livestock diseases and associated risk factors.

NAHMS' national studies are a collaborative industry and Government initiative to help determine the most effective means of preventing and controlling diseases of livestock. APHIS is the only agency responsible for collecting national data on livestock health. Participation in any NAHMS study is voluntary.

APHIS plans to conduct an Equine 2015 Study as part of an ongoing series of NAHMS studies on the U.S. livestock population. The purpose of this study is to:

• Describe trends in equine care and health management for study years 1998, 2005, and 2015;

• Estimate the occurrence of owner-reported lameness and describe practices associated with the management of lameness;

• Describe health and management practices associated with important equine infectious diseases;

• Describe animal health related costs of equine ownership;

• Evaluate control practices for gastrointestinal parasites;

• Evaluate horses for presence of ticks and describe tick-control practices used on equine operations; and

• Collect equine sera along with equine demographic information in order to create a serum bank for future studies.

The Equine 2015 Study will consist of on-farm questionnaires and a biological collection administered by National Agricultural Statistics Service enumerators and APHIS-designated data collectors. States are selected for participation based on the number of operations with equids and on the equid inventory. The goal is to include States that, combined, account for at least 70 percent of the operations and inventory in the United States. For each State, a weighted average of operations and inventory is calculated, with inventory weighted slightly higher. Generally, States with at least 2 percent of the U.S. total weighted average are selected to participate in the survey. States may also be included based on industry interest or for geographic representation.

The information collected will be used to:

• Direct future equine industry education;

• Allow equine owners and managers to compare their health management practices and disease prevalence in their equids with national and regional estimates;

• Identify research needs;

• Describe trends in equine health and management over time; and

• Provide baseline information to assist with policy development.

We are asking the Office of Management and Budget (OMB) to approve our use of these information collection activities for 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies, such as electronic submission of responses.

Estimate of burden: The public reporting burden for this collection of information is estimated to average 0.906 hours per response.

Respondents: Equine owners, equine farm managers, and equine trainers.

Estimated annual number of respondents: 18,446.

Estimated annual number of responses per respondent: 1.

Estimated annual number of responses: 18,446.

Estimated total annual burden on respondents: 16,712 hours. (Due to averaging, the total annual burden hours may not equal the product of the annual number of responses multiplied by the reporting burden per response.)

All responses to this notice will be summarized and included in the request for OMB approval. All comments will also become a matter of public record.

Done in Washington, DC, this 30th day of June 2014.
Kevin Shea,
Administrator, Animal and Plant Health Inspection Service.

[FR Doc. 2014-15749 Filed 7-3-14; 8:45 am]

BILLING CODE 3410-34-P